DEPARTMENT OF THE INTERIOR

Bureau of Land Management

[LLCAC08000 XXXL1109RM L19200000.JP0000 LRORBX003800]

Notice of Interim Final Supplementary Rules for Public Lands in El Dorado County, CA

AGENCY: Bureau of Land Management, Interior.

ACTION: Interim final supplementary rules.

SUMMARY: The California State Director for the Bureau of Land Management (BLM) is establishing interim final supplementary rules and requests public comments. These interim final supplementary rules will become effective immediately upon publication in the Federal Register, and will apply to 695 acres of public lands, known as Kanaka Valley, in El Dorado County, California. The BLM has determined that these interim final supplementary rules are necessary to enhance the safety of visitors and local residents and reduce the risk of undue ecological degradation to Kanaka Valley's rare soils and plants and other significant values. These rules are in accordance with the Kanaka Valley Management Plan (2013).

DATES: The interim final supplementary rules are effective immediately and remain in effect until modified or rescinded by the publication of final supplementary rules. The BLM invites comments until January 5, 2015. Comments received, postmarked, or electronically dated after that date will not necessarily be considered in the development of final supplementary rules.

ADDRESSES: Please mail or hand deliver all comments concerning the interim final supplementary rules to the Bureau of Land Management, Attention: Supplementary Rules, BLM Mother Lode Field Office, 5152 Hillsdale Circle, El Dorado Hills, CA 95762.

FOR FURTHER INFORMATION CONTACT: James Barnes, telephone (916) 941-3140; address 5152 Hillsdale Circle, El Dorado Hills, CA 95762; email jjbarnes@blm.gov or Web site http://www.ca.blm.gov/motherlode.

SUPPLEMENTARY INFORMATION:

I. Public Comment Procedures

The public is invited to provide comments on these interim final supplementary rules. See DATES and ADDRESSES for information on submitting comments. Written comments on the interim final supplementary rules should be specific, confined to issues pertinent to the interim final supplementary rules and explain the reason for any recommended change. Comments requesting changes to decisions in the 2013 Kanaka Valley Management Plan and Decision Record would be outside the scope of this rulemaking.

Where possible, comments should reference a specific provision of these interim final supplementary rules. The BLM need not consider or include in the administrative record: (a) comments that the BLM receives after the close of the comment period (see DATES), unless they are postmarked or electronically dated before the deadline, or (b) comments delivered to an address other than that listed above (see ADDRESSES).

Comments, including names, street addresses, and other contact information of respondents, will be available for public review at the BLM Mother Lode Field Office during regular business hours of 8:30 a.m. to 4:30 p.m., Monday through Friday, except Federal holidays. Before including your address, telephone number, email address, or other personal identifying information in your comment, be advised that your entire comment—including your personal identifying information—may be made publicly available at any time. While you can ask in your comment to withhold from public review your personal identifying information, we cannot guarantee that we will be able to do so.

II. Background

Kanaka Valley is comprised of 695 acres of public lands in El Dorado County, California. The BLM acquired Kanaka Valley through a donation in 2010. In response to the rapidly growing popularity of Kanaka Valley with the recreating public and the need to provide for public safety and protect this area's special environmental values, the BLM developed the 2013 Kanaka Valley Management Plan and Decision Record. This is an area-specific activity-level plan that tiers to the BLM's 2008 Sierra Resource Management Plan. It was needed to help the BLM manage Kanaka Valley's special environmental values and recreational opportunities.

Sections 302 and 310 of the Federal Land Policy and Management Act of 1976 (43 U.S.C. 1732 and 1740) provide the overall authority for the BLM's management of Kanaka Valley. The BLM is establishing these interim final supplementary rules under the authority of 43 CFR 8365.1-6, which allows BLM State Directors to establish supplementary rules for the protection of persons, property, and public lands and resources.

The supplementary rules outlined in this notice are designed to immediately and effectively reduce risks to public health and safety and the area's environmental resources including, but not limited to, rare gabbro soils and plants. The supplementary rules include provisions to partially open Kanaka Valley to hunting. The seasons of use and methods of take were developed collaboratively by the BLM, adjacent private residents, local stakeholders, and the California Department of Fish and Wildlife. Given these considerations and the prior analysis of these issues as part of the planning process, the BLM finds good cause under 5 U.S.C. 553(b)(3)(B) that public notice and comment for this rule are “impractical, unnecessary, or contrary to the public interest,” and under 5 U.S.C. 553(d) that this rule may properly take effect upon publication. During the planning process that led to the Kanaka Valley Management Plan and Decision Record, the BLM took the following steps to involve the public in making decisions about Kanaka Valley:

• The BLM conducted 16 public meetings from June 2010 to June 2011 to develop the Kanaka Valley Management Plan. The BLM contacted Indian tribes during this time. The BLM also worked closely on hunting- and firearms-related issues with private landowners (many with residences adjacent to Kanaka Valley), hunting groups, and the California Department of Fish and Wildlife during this time.

• The BLM made the draft Kanaka Valley Management Plan and associated Environmental Assessment (EA) available for a 30-day comment period beginning in April 2012. Indian tribes were also afforded a 30-day comment period.

• A public meeting was held to discuss the draft Kanaka Valley Management Plan and associated EA on April 26, 2012, in Cameron Park, CA and on May 5, 2012, at Kanaka Valley.

• The BLM summarized all public comments and addressed them in the Decision Record. All decisions related to these interim final supplementary rules were analyzed in the EA which is available for public viewing at the address specified under ADDRESSES and online at: http://www.ca.blm.gov/motherlode.

Based on this extensive public participation, the BLM identified the following public safety and resource protection concerns at Kanaka Valley:

• Potential conflicts between firearms use and other recreationists;

• Potential conflicts between firearms use and nearby residents;

• Wildfire risk due to camping and campfires;

• Degradation of natural resources including rare soils and plants; and

• Degradation of cultural resources.

III. Discussion of Interim Final Supplementary Rules

These interim final supplementary rules provide for the protection of persons, property, public lands, and resources, in accordance with the 2013 Kanaka Valley Management Plan and Decision Record.

Rule 1 prohibits the operation of any motorized vehicle outside of county-maintained roads or BLM-designated areas (for example, parking lots) without first obtaining written BLM authorization. Motorized use is allowed by the BLM and its contractors for official administrative purposes. Rule 5 allows riding horses, mountain bikes, and other non-motorized conveyances only on designated trails. Rule 6 allows the recovery of gold or any other mineral resources only by hands and pans. These rules will help prevent resource damage and degradation of the area's rare soils and plants.

Rule 2 prohibits the discharge or use of firearms or other dangerous weapons for the purpose of target shooting. The Kanaka Valley parcel is relatively small (695 acres) and adjoins private lands, many of which are residential properties of less than 20 acres containing occupied dwellings in close proximity to the parcel's boundaries (within 150 yards in at least 10 cases). At most of the 16 public meetings the BLM held from June 2010 to June 2011 while developing the Kanaka Valley Management Plan, members of the public expressed concern about accidental shooting-related injuries and fatalities. Many of those who expressed this concern occupied houses on private lands immediately adjacent to the Kanaka Valley parcel. The issue was also raised multiple times in written public comments to the BLM on the draft Kanaka Valley Management Plan and EA. The BLM's decision to prohibit target shooting at Kanaka Valley had the overwhelming support of members of the public who participated in the Kanaka Valley land-use planning process, including hunting groups.

Rules 3 and 4 prohibit camping and campfires. These rules will reduce the risk of wildfire ignition. There are several occupied dwellings and associated outbuildings on private lands immediately adjacent to the Kanaka Valley parcel. In at least 10 cases these dwellings are within 150 yards of the parcel's boundaries. There is dense grass, brush, and other wildfire-prone vegetation in this area. The issue of wildfire prevention was raised at most of the 16 public meetings the BLM held to develop the Kanaka Valley Management Plan. The issue was also raised in written public comments to the BLM on the draft Kanaka Valley Management Plan and EA. The BLM's decision to establish Rules 3 and 4 prohibiting camping and campfires had overwhelming support of those members of the public who participated in the Kanaka Valley land-use planning process.

Rule 7 allows hunting with the following methods of take:

• Bows and arrows;

• Smoothbore shotguns;

• Muzzleloaders; and

• Air guns of .22 caliber or less that are allowed as a method of take for game species pursuant to California Department of Fish and Wildlife regulations.

Muzzleloaders are allowed only after fire season is declared over by the BLM.

This rule will help prevent accidental shooting-related injuries and fatalities by restricting high-velocity firearms such as rifles. This rule will also help reduce the risk of wildfire ignition. The issue of preventing accidental shooting-related injuries and fatalities was raised by the public at most of the 16 public meetings the BLM held to develop the Kanaka Valley Management Plan. The issue was also raised multiple times in written public comments to the BLM on the draft Kanaka Valley Management Plan and EA. The BLM determined during the Kanaka Valley land-use planning process that the use of high-velocity firearms was unsafe at Kanaka Valley due to the parcel's relatively small size and close proximity to at least 10 occupied dwellings. The BLM's decision to restrict the types of firearms used by hunters at Kanaka Valley had strong support of those members of the public who participated in the Kanaka Valley land-use planning process, including hunting groups.

Rule 8 prohibits hunting for bear, squirrels, rabbits, jackrabbits, waterfowl, furbearers, and non-game species. Rule 9 restricts hunting to deer and turkey during the fall season, deer during the summer archery-only season, and quail and dove during the seasons approved by the California Department of Fish and Wildlife. Rules 8 and 9 were developed collaboratively with adjacent private residents, local stakeholders (including hunting groups), and the California Department of Fish and Wildlife and will help prevent accidental shooting-related injuries and fatalities during periods of high recreational use (i.e., associated with the spring wildflower bloom) at Kanaka Valley, and will help prevent the area's wildlife population from being rapidly depleted. The hunting seasons for Rule 8 species are so unique, lengthy, and overlapping that it would be difficult to effectively manage them, thereby presenting a public safety danger for adjacent residences. The issue of accidental shooting-related injuries and fatalities was raised by the public at most of the 16 public meetings the BLM held to develop the Kanaka Valley Management Plan. The issue was also raised multiple times in written public comments to the BLM on the draft Kanaka Valley Management Plan and EA. The BLM's decision to restrict hunting of certain game animals at Kanaka Valley was made in consultation with the California Department of Fish and Wildlife and had strong support of those members of the public who participated in the Kanaka Valley land-use planning process, including hunting groups.

Rule 10 allows hunting only in the designated hunting zone, which will be explicitly identified (through maps and signs) by the BLM for hunting. Regulations of the California Department of Fish and Wildlife forbid any person (other than the owner, person in possession of the premises, or a person having the express permission of the owner or person in possession of the premises) to hunt or to discharge while hunting, any firearm or other deadly weapon within 150 yards of an occupied dwelling, residence, or other associated building, barn, or other outbuilding. There are more than 10 occupied dwellings and associated outbuildings within 150 yards of the Kanaka Valley parcel's boundaries. Therefore, Rule 10 implements the 150-yard requirement by establishing a no hunting zone that is clearly delineated by on-the-ground topographic features. The rule is needed to help enforce California state law and regulations and explains a specific instance of how the BLM will apply State laws governing hunting, as required at 43 CFR 8365.1-7.

Rule 11 allows a spring turkey hunt by hunters selected though a lottery process coordinated by the California Department of Fish and Wildlife. Since spring turkey hunting has become very popular in California, a lottery process will help prevent accidental shooting-related injuries and fatalities during a period of high recreational use at Kanaka Valley, and will help prevent the area's turkey population from being rapidly depleted.

IV. Procedural Matters

Executive Order 12866, Regulatory Planning and Review

These interim final supplementary rules are not a significant regulatory action under Executive Order 12866. These interim final supplementary rules will not have an annual effect of $100 million or more on the economy or adversely affect, in a material way, the economy, productivity, competition, jobs, the environment, public health or safety, or State, local or tribal governments or communities. These interim final supplementary rules will not create a serious inconsistency or otherwise interfere with an action taken or planned by another agency. The interim final supplementary rules do not materially alter the budgetary effects of entitlements, grants, user fees, or loan programs or the right or obligation of their recipients; nor do they raise novel legal or policy issues. They merely impose certain rules on recreational activities on a limited portion of the public lands in California in order to protect human health, safety, and the environment.

Clarity of the Interim Final Supplementary Rules

Executive Order 12866 requires each agency to write regulations that are simple and easy to understand. We invite your comments on how to make these interim final supplementary rules easier to understand, including answers to questions such as the following:

(1) Are the requirements in the interim final supplementary rules clearly stated?

(2) Do the interim final supplementary rules contain technical language or jargon that interferes with their clarity?

(3) Does the format of the interim final supplementary rules (grouping and order of sections, use of headings, paragraphing, etc.) aid or reduce their clarity?

(4) Would the interim final supplementary rules be easier to understand if they were divided into more (but shorter) sections?

(5) Is the description of the interim final supplementary rules in the SUPPLMENTARY INFORMATION section of this preamble helpful in understanding the interim final supplementary rules? How could this description be more helpful in making the interim final supplementary rules easier to understand?

Please send any comments you have on the clarity of the interim final supplementary rules to the address specified in the ADDRESSES section.

National Environmental Policy Act

These interim final supplementary rules are a component of a larger land-use planning process for Kanaka Valley (i.e., Kanaka Valley Management Plan and Decision Record) that was a Federal action. In developing the Kanaka Valley Management Plan and Decision Record, the BLM prepared the draft Kanaka Valley Management Plan and EA, which includes a complete analysis of each decision corresponding to the interim final supplementary rules. Based on the analysis in this EA, the BLM found that the action, including the interim final supplementary rules, would not have a significant individual or cumulative effect on the quality of the human environment under Section 102(2)(C) of the NEPA (42 U.S.C. 4332(2)(C)). See 40 CFR 1508.4; 43 CFR 46.210. The BLM prepared a Finding of No Significant Impact (FONSI) to document this finding.

The draft management plan, EA, FONSI, and Kanaka Valley Management Plan and Decision Record are on file and available to the public in the BLM administrative record at the address specified under ADDRESSES. They are also available to the pubic online at: http://www.ca.blm.gov/motherlode.

Regulatory Flexibility Act

Congress enacted the Regulatory Flexibility Act (RFA) of 1980, as amended, 5 U.S.C. 601-612, to ensure that government regulations do not unnecessarily or disproportionately burden small entities. The RFA requires a regulatory flexibility analysis if a rule would have a significant economic impact, either detrimental or beneficial, on a substantial number of small entities. The interim final supplementary rules do not pertain specifically to commercial or governmental entities of any size, but to public recreational use of specific public lands. Therefore, the BLM has determined under the RFA that these interim final supplementary rules would not have a significant economic impact on a substantial number of small entities.

Small Business Regulatory Enforcement Fairness Act

These interim final supplementary rules do not constitute a “major rule” as defined at 5 U.S.C. 804(2). The interim final supplementary rules generally contain rules of conduct for recreational use of certain public lands. They do not have an effect on business, commercial, or industrial use of the public lands that rises to any of the following thresholds specified in 5 U.S.C. 804(2):

(a) An annual effect on the economy of $100 million or more;

(b) A major increase in costs or prices for consumers, individual industries, Federal, State, or local government agencies, or geographic regions; or

(c) Significant adverse effects on competition, employment, investment, productivity, innovation, or on the ability of United States-based enterprises in domestic and export markets.

Unfunded Mandates Reform Act

These interim final supplementary rules do not impose an unfunded mandate on State, local or tribal governments in the aggregate, or the private sector, of more than $100 million per year; nor do they have a significant or unique effect on small governments. These interim final supplementary rules do not require anything of State, local, or tribal governments. Therefore, the BLM is not required to prepare a statement containing the information required by the Unfunded Mandates Reform Act (2 U.S.C. 1531 et seq.).

Executive Order 12630, Governmental Actions and Interference With Constitutionally Protected Property Rights (Takings)

The interim final supplementary rules are not a government action capable of interfering with constitutionally protected property rights. The interim final supplementary rules do not address property rights in any form and do not cause the impairment of anybody's property rights. Therefore, the Department of the Interior has determined that these interim final supplementary rules would not cause a taking of private property or require further discussion of takings implications under this Executive Order.

Executive Order 13132, Federalism

The interim final supplementary rules will not have a substantial direct effect on the States, on the relationship between the national government and the States, or on the distribution of power and responsibilities among the various levels of government. Therefore, the BLM has determined that these interim final supplementary rules do not have sufficient Federalism implications to warrant preparation of a Federalism Assessment.

Executive Order 12988, Civil Justice Reform

Under Executive Order 12988, the BLM has determined that these interim final supplementary rules will not unduly burden the judicial system and that the requirements of sections 3(a) and 3(b)(2) of the Executive Order are met. The supplementary rules include rules of conduct and prohibited acts, but they are straightforward and not confusing.

Executive Order 13175, Consultation and Coordination With Indian Tribal Governments

As discussed in the 2013 Kanaka Valley Management Plan and Decision Record, the BLM has been working with both federally recognized tribes and other Native American groups having ancestral and cultural ties to the public lands at Kanaka Valley. The tribes and other Native American groups include Shingle Springs Rancheria, United Auburn Indian Community, Washoe Tribe of California and Nevada, Ione Band of Miwok Indians, Buena Vista Rancheria, Nashville-Eldorado Miwok Tribe, and El Dorado Miwok Tribe.

The tribes and other Native American groups actively participated in the planning process that resulted in the 2013 Kanaka Valley Management Plan and Decision Record. The BLM also provided tribes and Native American groups in the vicinity of Kanaka Valley with copies of the draft Kanaka Valley Management Plan and associated Environmental Assessment. The BLM requested comments, and the tribes and other Native American groups expressed no concerns about the draft management plan or the decisions related to these interim final supplementary rules. For these reasons, the BLM has determined that these interim final supplementary rules do not include policies with tribal implications that have not already been considered in consultation and coordination with Indian tribal governments.

Information Quality Act

In developing these supplementary rules, the BLM did not conduct or use a study, experiment or survey requiring peer review under the Information Quality Act (Section 515 of Pub. L. 106-554). In accordance with the Information Quality Act, the Department of the Interior has issued guidance regarding the quality of information that it relies upon for regulatory decisions. This guidance is available at DOI's Web site at http://www.doi.gov/ocio/iq.html.

Executive Order 13211, Effects on the Nation's Energy Supply

These supplementary rules do not comprise a “significant energy action,” as defined in Executive Order 13211, since they are not likely to have a significant adverse effect on the supply, distribution, or use of energy.

Paperwork Reduction Act

These interim final supplementary rules do not contain information collection requirements that the Office of Management and Budget must approve under the Paperwork Reduction Act (44 U.S.C. 3501 et seq.).

Author

The principal author of these interim final supplementary rules is James Barnes, Archaeologist, BLM Mother Lode Field Office.

For the reasons stated in the preamble and under the authority for supplementary rules found in 43 CFR 8365.1-6, the BLM California State Director hereby establishes supplementary rules, effective on an interim final basis immediately after the date of publication in the Federal Register, for 695 acres of public lands known as Kanaka Valley, managed by the BLM in El Dorado County, California, to read as follows:

Interim Final Supplementary Rules for 695 Acres of Public Lands Within El Dorado County, California

These interim final supplementary rules affect 695 acres of public lands at Kanaka Valley in El Dorado County, California. The legal description of the affected public lands is:

Mount Diablo Meridian

T. 10 N., R. 9 E.,

Sec. 5, unnumbered lot in W½NW¼ and W½SW¼;

Sec. 6, unnumbered lot in E½NE¼, E½SE¼, S½N½ lot 1 in SW¼, and S½NW¼SE¼;

Sec. 7, lot 1 in NW¼, lot 2 in NW¼, and NE¼;

Sec. 8, NW¼NW¼. T. 11 N., R. 9 E.,

Sec. 31, SE¼SE¼SW¼ and SW¼SE¼.

The area described aggregates 695.01 acres, more or less, in El Dorado County, California.

Definitions

Campfire means a controlled fire occurring out of doors, used for cooking, branding, personal warmth, lighting, ceremonial or aesthetic purposes. Campfires include wood fires, charcoal fires, and portable gas stoves using gas, jellied petroleum, or pressurized liquid fuel.

Camping means erecting a tent or a shelter of natural or synthetic material, preparing a sleeping bag or other bedding material, or parking a motor vehicle, motor home, or trailer for the purpose or apparent purpose of overnight occupancy.

Dangerous weapon means any weapon that in the manner of its use, or intended use, is capable of causing death or serious bodily injury.

Designated hunting zone means a zone explicitly identified (through maps and signs) by the BLM for hunting.

Designated trail means a trail developed, maintained, and explicitly identified by the BLM for public non-motorized use. All designated trails will be identified by a combination of maps and signs.

Firearm means any weapon designed to expel a projectile by the action of an explosive.

Hunting means taking or attempting to take wildlife by any means, except by trapping or fishing.

Motorized vehicle means any motorized transportation conveyance designed for use on or off roadways, such as an automobile, motorcycle, or truck.

Target shooting means discharging a firearm or other dangerous weapon for any purpose other than hunting.

Rules

1. You must not operate any motorized vehicle outside of county-maintained roads or BLM-designated areas (i.e., parking lot) without first obtaining written BLM authorization (i.e., right-of-way). BLM employees and BLM contractors are allowed to use motorized vehicles for official administrative purposes without further authorization.

2. You must not discharge or use firearms or other dangerous weapons for the purpose of target shooting.

3. Camping is prohibited.

4. Campfires are prohibited.

5. Riding horses, mountain bikes, and other non-motorized conveyances is allowed only on designated trails.

6. Only hands and pans may be used to recover gold or any other mineral resources.

7. Hunting, as specified in 8 and 9, is allowed only with the following methods of take: Bows and arrows, smoothbore shotguns, muzzleloaders, and air guns of .22 caliber or less that are allowed as a method of take for game species pursuant to California Department of Fish and Wildlife regulations. Muzzleloaders are allowed only after fire season is declared over by the BLM.

8. You must not hunt for bear, squirrels, rabbits, jackrabbits, waterfowl, furbearers, or non-game species.

9. Hunting is restricted to deer and turkey during the fall season, deer during the summer archery-only season, and quail and dove during the seasons approved by the California Department of Fish and Wildlife.

10. Hunting is allowed only in the designated hunting zone.

11. In the spring, turkey may be hunted through a special hunt; participants will be selected through a lottery process coordinated by the California Department of Fish and Wildlife.

Exemptions

The following persons are exempt from these supplementary rules: Any Federal, state, local, and/or military employees acting within the scope of their official duties; members of any organized rescue or fire fighting force performing an official duty; and persons who are expressly authorized or approved by the BLM.

The prohibition of target shooting in Rule 2 has no effect on hunting by licensed hunters in legitimate pursuit of game during the proper season with appropriate firearms, as defined by the California Department of Fish and Wildlife.

Penalties

Any person who violates any of these supplementary rules may be tried before a United States Magistrate and fined no more than $1,000 or imprisoned for no more than 12 months, or both (43 U.S.C. 1733(a); 43 CFR 8360.0-7). Such violations may also be subject to the enhanced fines provided for by 18 U.S.C. 3571.

James G. Kenna,
State Director.

[FR Doc. 2014-26410 Filed 11-5-14; 8:45 am]

BILLING CODE 4310-P